DEPARTMENT OF COMMERCE

International Trade Administration

[C-580-837]

Certain Cut-to-Length Carbon-Quality Steel Plate From the Republic of Korea: Preliminary Results of Countervailing Duty Administrative Review; and Rescission of Review, in Part; Calendar Year 2016

AGENCY: Enforcement and Compliance, International Trade Administration, Department of Commerce.

SUMMARY: The Department of Commerce (Commerce) determines that Hyundai Steel Co. (Hyundai Steel) and Dongkuk Steel Mill Co., Ltd. (DSM), exporters/producers of certain cut-to-length plate from the Republic of Korea, received countervailable subsidies during the period of review (POR) January 1, 2016, through December 31, 2016. However, the countervailable subsidies received by DSM were de minimis.

DATES: Applicable March 12, 2018.

FOR FURTHER INFORMATION CONTACT: John Conniff (for Hyundai Steel) or Jolanta Lawska (for DSM), AD/CVD Operations, Office III, Enforcement and Compliance, International Trade Administration, U.S. Department of Commerce, 1401 Constitution Avenue NW, Washington, DC 20230; telephone (202) 482-1009 and (202) 482-8362, respectively.

SUPPLEMENTARY INFORMATION: Commerce exercised its discretion to toll all deadlines affected by the closure of the Federal Government on January 22, 2018. If the new deadline falls on a non-business day, in accordance with Commerce's practice, the deadline will become the next business day. The revised deadline for the final results of this review is now March 5, 2018.¹

¹ See Memorandum for The Record from Christian Marsh, Deputy Assistant Secretary for Enforcement and Compliance, performing the non-exclusive functions and duties of the Assistant Secretary for Enforcement and Compliance, “Deadlines Affected by the Shutdown of the Federal Government” (Tolling Memorandum), dated January 23, 2018. All deadlines in this segment of the proceeding have been extended by 3 days.

Intent To Partially Rescind the Administrative Review

Pursuant to 19 CFR 351.213(d)(l), Commerce will rescind an administrative review, in whole or in part, if the party or parties that requested a review withdraws the request within 90 days of the publication date of the notice of initiation of the requested review. Commerce initiated a review of 14 companies in this administrative review.² The petitioner ³ timely withdrew its request for an administrative review of Bookuk Steel, Daewoo International Corp., Hyundai Glovis Co., Ltd., Hyundai Mipo Dockyard Co., Ltd., Hyuosung Corporation, Samsung C&T Corporation, Samsung C&T Engineering & Construction Group, Samsung C&T Trading Investment Group, Samsung Heavy Industries, SK Networks, Steel N People Co Ltd., and Sung Jin Steel Co., Ltd. Therefore, in accordance with 19 CFR 351.213(d)(l), we are rescinding this administrative review with respect to these companies.

² See Initiation of Antidumping and Countervailing Duty Administrative Reviews, 82 FR 17188, April 10, 2017.

³ The petitioner is Nucor Corporation (Nucor), a domestic producer of cut-to-length carbon-quality steel plate and a domestic interested party.

Scope of the Order

The merchandise covered by the order is certain cut-to-length carbon-quality steel plate from Korea. For a complete description of the scope of the order, see the Preliminary Decision Memorandum.⁴

⁴ See “Decision Memorandum for the Preliminary Results of the Countervailing Duty Administrative Review: Certain Cut-to-Length Carbon-Quality Steel Plate from the Republic of Korea,” dated concurrently with this notice (Preliminary Decision Memorandum).

Methodology

Commerce is conducting this review in accordance with section 751(a)(1)(A) of the Tariff Act of 1930, as amended (the Act). For each of the subsidy programs found countervailable, we preliminarily determine that there is a subsidy, i.e., a financial contribution by an “authority” that confers a benefit to the recipient, and that the subsidy is specific.⁵ For a full description of the methodology underlying our conclusions, see the accompanying Preliminary Decision Memorandum. The Preliminary Decision Memorandum is a public document and is on file electronically via Enforcement and Compliance's Antidumping and Countervailing Duty Centralized Electronic Service System (ACCESS). ACCESS is available to registered users at https://access.trade.gov and in the Central Records Unit, Room B8024 of the main Department of Commerce building. In addition, a complete version of the Preliminary Decision Memorandum can be accessed directly on the internet at http://enforcement.trade.gov/frn/index.html. The signed Preliminary Decision Memorandum and the electronic version of the Preliminary Decision Memorandum are identical in content.

⁵ See sections 771(5)(B) and (D) of the Act regarding financial contribution; section 771(5)(E) of the Act regarding benefit; and section 771(5A) of the Act regarding specificity.

Preliminary Results of the Review

In accordance with 19 CFR 351.221(b)(4)(i), we calculated an individual subsidy rate for DSM and Hyundai Steel. For the period January 1, 2016, through December 31, 2016, we preliminarily determine that the following net subsidy rates for the producers/exporters under review to be as follows:

Company | Subsidy rate ad valorem
Dongkuk Steel Mill Co., Ltd | 0.21% (de minimis).
Hyundai Steel Company | 0.54%.

Disclosure and Public Comment

Commerce intends to disclose to parties to this proceeding the calculations performed in reaching the preliminary results within five days of the date of publication of these preliminary results.⁶ Interested parties may submit written arguments (case briefs) within 30 days of publication of the preliminary results and rebuttal comments (rebuttal briefs) within five days after the time limit for filing the case briefs.⁷ Pursuant to 19 CFR 351.309(d)(2), rebuttal briefs may respond only to issues raised in the case briefs. Parties who submit arguments are requested to submit with the argument: (1) Statement of the issue; (2) a brief summary of the argument; and (3) a table of authorities.

⁶ See 19 CFR 351.224(b).

⁷ See 19 CFR 351.309(c)(1)(ii); 351.309(d)(1); and 19 CFR 351.303 (for general filing requirements).

Interested parties who wish to request a hearing must submit a written request to the Assistant Secretary for Enforcement and Compliance, U.S. Department of Commerce, within 30 days after the date of publication of this notice.⁸ Requests should contain the party's name, address, and telephone number, the number of participants, and a list of the issues to be discussed. If a request for a hearing is made, we will inform parties of the scheduled date for the hearing, which will be held at the U.S. Department of Commerce, 1401 Constitution Avenue NW, Washington, DC 20230, at a time and location to be determined.⁹ Parties should confirm by telephone the date, time, and location of the hearing.

⁸ See 19 CFR 351.310(c).

⁹ See 19 CFR 351.310.

Parties are reminded that briefs and hearing requests are to be filed electronically using ACCESS and that electronically filed documents must be received successfully in their entirety by 5:00 p.m. Eastern Time on the due date.

Unless the deadline is extended pursuant to section 751(a)(3)(A) of the Act, Commerce will issue the final results of this administrative review, including the results of our analysis of the issues raised by parties in their comments, within 120 days after issuance of these preliminary results.

Assessment Rates and Cash Deposit Requirements

Upon completion of the administrative review, Commerce shall determine, and U.S. Customs and Border Protection (CBP) shall assess, countervailing duties on all appropriate entries covered by this review. We intend to issue assessment instructions to CBP 15 days after publication of the final results of this review.

Pursuant to section 751(a)(2)(C) of the Act, Commerce also intends to instruct CBP to collect cash deposits of estimated countervailing duties in the amounts indicated above for each company listed on shipments of subject merchandise entered, or withdrawn from warehouse, for consumption on or after the date of publication of the final results of this administrative review. These cash deposit requirements, when imposed, shall remain in effect until further notice.

This administrative review and notice are issued and published in accordance with sections 751(a)(1) and 777(i)(1) of the Act and 19 CFR 351.213.

Dated: March 5, 2018.
Gary Taverman,
Deputy Assistant Secretary for Antidumping and Countervailing Duty Operations, performing the non-exclusive functions and duties of the Assistant Secretary for Enforcement and Compliance.

Appendix—List of Topics Discussed in the Preliminary Decision Memorandum

I. Summary

II. Background

III. Rescission of Administrative Review, In Part

IV. Scope of the Order

V. Subsidies Valuation Information

A. Allocation Period

B. Attribution of Subsidies

C. Benchmarks for Long-Term Loans and Discount Rates

D. Denominators

VI. Analysis of Programs

A. Programs Preliminarily Determined to be Countervailable

B. Programs Preliminarily Determined Not to Confer a Measurable Benefit

C. Programs Preliminarily Determined to Not be Not Used

VII. Recommendation

[FR Doc. 2018-04899 Filed 3-9-18; 8:45 am]

BILLING CODE 3510-DS-P